DEPARTMENT OF TRANSPORTATION

Federal Aviation Administration

Notice of Intent To Request Approval From the Office of Management and Budget (OMB) for a New Public Collection of Information for National Airspace System (NAS) Data

AGENCY: Federal Aviation Administration (FAA), (DOT).

ACTION: Notice.

SUMMARY: In compliance with the Paperwork Reduction Act (44 U.S.C. 3501 et seq.), the FAA invites public comment on a new public information collection which will be submitted to OMB for approval.

DATES: Comments must be submitted on or before June 25, 2001.

ADDRESSES: Comments may be mailed or delivered to FAA, at the following address: Ms. Judy Street, Room 613, Federal Aviation Administration, Standards and Information Division, APF-100, 800 Independence Avenue, SW., Washington, DC 20591.

FOR FURTHER INFORMATION CONTACT: Ms. Judy Street, at the above address or on (202) 267-9895.

SUPPLEMENTARY INFORMATION: The FAA solicits comments on the following new collection of information in order to evaluate the necessity of the collection, the accuracy of the agency's estimate of burden, the quality, utility, and clarity of the information to be collected, and possible ways to minimize the burden of collection. The following is a synopsis of the information collection activity which will be submitted to OMB for review and approval:

The FAA is collecting basic vendor information such as name, address, phone number, point of contact, purpose of request, type of data requested, and method of acquiring FAA NAS data. The FAA is collecting this information in order to assess the validity of the data requestor. This is a standardized collection vehicle that will eliminate confusion among the nine FAA regions, and allow electronic tracking of the standard data requested for trend analysis.

The requestors are primarily vendors in private industry who have been contracted by airport authorities to conduct various studies such as noise abatement pollution reduction. Other requestors could be private airport operators who may have a need to study various radar tracks to ascertain aircraft position within their particular airspace.

Typically, the requestor will need an hour and a half to three hours to fill out the form, depending upon the amount of supporting documentation required.

The data requestor is obligated to respond with the information requested in order for the FAA to objectively evaluate the validity of the request. With growing information security concerns, all interested parties who desire access to FAA NAS data must be able to satisfy the FAA that their need for the data will not violate current information security practices.

It is also noted that an agency may not conduct or sponsor, and a person is not required to respond to, a collection of information unless it displays a currently valid OMB control number. When assigned by OMB, the respondents will be notified of the control number.

Issued in Washington, DC on April 19, 2001.
Steve Hopkins,
Manager, Standards and Information Division, APF-100.

[FR Doc. 01-10241 Filed 4-24-01; 8:45 am]

BILLING CODE 4910-13-M